INTERNATIONAL TRADE COMMISSION

19 CFR Part 201

Electronic Filing Procedures

AGENCY: International Trade Commission.

ACTION: Partial waiver of final rule, notice of public demonstrations, and effective date of handbook.

SUMMARY: The United States International Trade Commission (Commission) hereby gives notice that its Electronic Document Information System (EDIS-II) will be available for electronic filing, and other uses such as search and retrieval on January 23, 2003. The effective date of the Handbook on Electronic Filing Procedures (Handbook), published in the notices section at 67 FR 68168, Nov. 8, 2002, is January 23, 2003. To assist party representatives in learning how to use EDIS-II, the Commission will hold two public demonstrations of the system on January 30, 2003. The first session will be at 10 a.m, and the second session will be at 2 p.m. In addition, the Commission has determined to waive the requirement in the Commission's rules of practice and procedure (rules) that paper filers must complete and print out an on-line cover sheet for submission with their filings. Instead, paper filers have the option of completing and submitting a paper copy of the cover sheet to the Secretary with their filings.

DATES: The Handbook and the waiver of a requirement in 19 CFR 201.8(g) are effective January 23, 2003.

The public demonstrations will be held on January 30, 2003, at 10 a.m. and 2 p.m.

ADDRESSES: The public demonstration will be held in the Main Hearing Room (Room 101) at the Commission, located at 500 E Street, SW., Washington, DC 20436.

FOR FURTHER INFORMATION CONTACT: Irene H. Chen, Esq., Office of the General Counsel, United States International Trade Commission, telephone 202-205-3112. Hearing-impaired individuals are advised that information on this matter can be obtained by contacting the Commission's TDD terminal at 202-205-1810.

General information concerning the Commission may also be obtained by accessing its website (http://www.usitc.gov).

SUPPLEMENTARY INFORMATION: On November 8, 2002, the Commission published a notice of final rulemaking (NOFR), 67 FR 68036, Nov. 8, 2002, and a notice regarding the Handbook on Electronic Filing Procedures (Handbook notice). 67 FR 68168, Nov. 8, 2002. In its NOFR, the Commission amended section 201.8 of the rules to allow persons the option of electronic filing and to require filers to complete an on-line cover sheet at http://edis.usitc.gov (EDIS-II website) when filing documents either in electronic or paper form. In the Handbook notice, which sets forth procedures for electronic filing, the Commission stated that the effective date of the Handbook will be announced in a Federal Register notice to be published at a later date.

The Commission has determined that the effective date of the Handbook is January 23, 2003, which is the date that EDIS-II will be available for electronic filing of documents. As appropriate, the Secretary will periodically revise the Handbook. Users should consult the Commission's EDIS-II website for the latest version of the Handbook.

The Commission also has determined to waive the requirement in § 201.8(g) of the rules that an on-line cover sheet at the EDIS-II website must be completed and printed out by paper filers for submission with their paper filings. Instead, paper filers have the option of (i) completing the on-line cover sheet at the EDIS-II website and printing out the cover sheet to be submitted with the filing; (ii) printing out the cover sheet at the EDIS website and completing the cover sheet by hand before submitting the cover sheet with the filing to the Secretary; or (iii) obtaining a paper copy of the cover sheet from the Office of the Secretary and completing the cover sheet by hand to be submitted with the paper filing. The Commission, however, strongly encourages paper filers to complete and print out the on-line cover sheet at the EDIS-II website for submission to the Secretary with their paper filings.

(Authority: 19 CFR 201.4(b)).

Issued: January 17, 2003.
By Order of the Commission.
Marilyn R. Abbott,
Secretary to the Commission.

[FR Doc. 03-1467 Filed 1-22-03; 8:45 am]

BILLING CODE 7020-02-P